DEPARTMENT OF TRANSPORTATION

Pipeline and Hazardous Materials Safety Administration

49 CFR Part 190

[Docket No. PHMSA-2025-0106]

RIN 2137-AF76

Pipeline Safety: Rationalize Calculation of Regulatory Filing and Compliance Deadlines

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's procedural regulations to establish a rule of construction clarifying the operation of procedural filing deadlines scheduled to fall on weekends and Federal holidays.

DATES: Consistent with 49 CFR 190.339(b), the effective date of the DFR published July 1, 2025 (90 FR 28044), is updated from October 9, 2025, to November 3, 2025.

FOR FURTHER INFORMATION CONTACT: Brianna Wilson, Transportation Specialist, by phone at 771-215-0969 or email at brianna.wilson@dot.gov.

SUPPLEMENTARY INFORMATION: On July 1, 2025 (90 FR 28044), PHMSA published a DFR amending its regulations at 49 CFR part 190 to amend the definition of “day” at 49 CFR 190.3 to specify that a filing deadline scheduled to fall on a weekend or Federal holiday will be deferred until the following business day.

PHMSA issued the DFR under the procedures set forth at 49 CFR 190.339. In accordance with those provisions, PHMSA stated in the DFR that if no adverse comments were received, the DFR would become final and effective on October 9, 2025. PHMSA's regulations at 49 CFR 190.339 require that, in the event a direct final rule does not garner an adverse comment or notice to file such a comment, the effective date stated in the DFR or at least 30 days after publication of the confirmation document, whichever is later. PHMSA is hereby providing confirmation that it did not receive any comments that warranted withdrawal of the DFR, and therefore, the DFR published July 1, 2025 (90 FR 28044), is effective on November 3, 2025.

Issued in Washington, DC, on September 30, 2025, under the authority designated in 49 CFR 1.97.
Benjamin D. Kochman,
Deputy Administrator.

[FR Doc. 2025-19326 Filed 10-1-25; 8:45 am]

BILLING CODE 4910-60-P